DEPARTMENT OF ENERGY

Federal Energy Regulatory Commission

[Docket No. ER01-1989-001]

Southwest Power Pool, Inc.; Notice of Filing

May 15, 2001.

Take notice that on May 10, 2001, Southwest Power Pool, Inc. (SPP) tendered for filing a supplement to the tariff changes submitted on May 7, 2001, in Docket No. ER01-1989-000.

Copies of this filing have been served on all affected state commission, SPP customers, and SPP members.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-12784 Filed 5-21-01; 8:45 am]

BILLING CODE 6717-01-M